ENVIRONMENTAL PROTECTION AGENCY

[FRL-8211-5]

Notification of a Public Meeting of the Science Advisory Board Environmental Economics Advisory Committee

AGENCY: Environmental Protection Agency (EPA).

ACTION: Notice.

SUMMARY: The EPA's Science Advisory Board (SAB) Staff Office is announcing a public meeting of the SAB Environmental Economics Advisory Committee (EEAC) to discuss the valuation of mortality risk reduction.

DATES: The meeting will be held from 9 a.m.-5 p.m. (EST) on September 14, 2006 and from 9 a.m.-2 p.m. (EST) on September 15, 2006.

ADDRESSES: The meeting will be held at the SAB Conference Center located at 1025 F Street, NW., Suite 3700, Washington, DC 20004.

FOR FURTHER INFORMATION CONTACT: Any member of the public wishing further information regarding the public meeting may contact Dr. Holly Stallworth, Designated Federal Officer (DFO), U.S. EPA Science Advisory Board Staff Office by telephone/voice mail at (202) 343-9867, or via e-mail at stallworth.holly@epa.gov. The SAB mailing address is: U.S. EPA, Science Advisory Board (1400F), 1200 Pennsylvania Avenue, NW., Washington, DC 20460. General information about the SAB, as well as any updates concerning the meeting announced in this notice, may be found in the SAB Web site at: http://www.epa.gov/sab. The technical contact for EPA's work on valuing mortality risk reduction is Dr. Chris Dockins who may be reached at (202) 566-2286 or dockins.chris@epa.gov.

SUPPLEMENTARY INFORMATION: Pursuant to the Federal Advisory Committee Act, Public Law 92-463, notice is hereby given that the SAB Environmental Economics Advisory Committee will hold a public meeting to discuss appropriate methods for valuing mortality risks in the context of cost-benefit analysis. The EEAC will be augmented by economists from the chartered Science Advisory Board as well as the Advisory Council on Clean Air Compliance Analysis. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The U.S. Environmental Protection Agency (EPA) uses a value of statistical life (VSL) to express the benefits of mortality risk reductions in monetary terms for use in benefit cost analyses of its rules and regulations. EPA has used the same central default value (adjusted for inflation) in its primary analyses since 1999 when the Agency updated its Guidelines for Preparing Economic Analyses (2000). Prior to the release of the Guidelines, EPA sought advice from the Science Advisory Board's Environmental Economics Advisory Committee (SAB-EEAC) on the appropriateness of this estimate and its derivation. In 2000, EPA also consulted with the SAB-EEAC on the appropriateness of making adjustments to VSL estimates to capture risk and population characteristics associated with fatal cancer risks. On May 12-13, 2004, the Environmental Economics Advisory Committee held a consultation to discuss the robustness of estimates from the mortality risk valuation literature.

EPA is now in the process of revising and updating its Guidelines and as such would like additional guidance on its approach to valuing mortality risk reductions. The EEAC has been asked to review two papers related to this topic. The first paper (posted at http://yosemite.epa.gov/EE/epa/eerm.nsf/vwRepNumLookup/EE-0494?OpenDocument) addresses the application of meta analysis techniques to the derivation of estimates for mortality risk reduction. A second paper discusses appropriate and available methods for valuing mortality risk reductions when affected populations have varying life expectancies. This paper will be posted at http://yosemite.epa.gov/EE/epa/eerm.nsf/vwRepNumLookup/EE-0495?OpenDocument.

Availability of Meeting Materials: Materials in support of this meeting will be placed on the SAB Web Site at: http://www.epa.gov/sab/ in advance of this meeting.

Procedures for Providing Public Input: Interested members of the public may submit relevant written or oral information for the SAB to consider during the advisory process.

Oral Statements: In general, individuals or groups requesting an oral presentation at a public meeting will be limited to five minutes per speaker, with no more than a total of one hour for all speakers. Interested parties should contact Dr. Stallworth, DFO, at the contact information noted above, by August 31, 2006, to be placed on the public speaker list for the September 14-15, 2006 meeting.

Written Statements: Written statements should be received in the SAB Staff Office by August 31, so that the information may be made available to the SAB for their consideration prior to this meeting. Written statements should be supplied to the DFO in the following formats: one hard copy with original signature, and one electronic copy via e-mail to stallworth.holly@epa.gov (acceptable file format: Adobe Acrobat PDF, WordPerfect, MS Word, MS PowerPoint, or Rich Text files in IBM-PC/Windows 98/2000/XP format).

Meeting Access: For information on access or services for individuals with disabilities, please contact Dr. Stallworth at (202) 343-9867 or stallworth.holly@epa.gov. To request accommodation of a disability, please contact Dr. Stallworth, preferably at least 10 days prior to the meeting to give EPA as much time as possible to process your request.

Dated: August 11, 2006.
Anthony F. Maciorowski,
Associate Director for Science, EPA Science Advisory Board Staff Office.

[FR Doc. E6-13744 Filed 8-18-06; 8:45 am]

BILLING CODE 6560-50-P